NUCLEAR REGULATORY COMMISSION

[Docket No. 50-346; License No. NPF-3]

FirstEnergy Nuclear Operating Company, Davis-Besse Nuclear Power Station, Unit 1; Receipt of Request for Action Under 10 CFR 2.206

Notice is hereby given that by petition dated February 3, 2003, Congressman Dennis J. Kucinich (petitioner) of the United States House of Representatives has requested that the U.S. Nuclear Regulatory Commission (NRC) revoke the FirstEnergy Nuclear Operating Company's (FirstEnergy's) license to operate the Davis-Besse Nuclear Power Station in Oak Harbor, Ohio.

As the basis for this request, the petitioner states that FirstEnergy “has operated outside the parameters of their operating license for several years, has violated numerous federal laws, rules and regulations, and has hidden information from the NRC and lied to the NRC to justify the continuing operation of the Davis-Besse Nuclear Power Station.”

The request is being treated pursuant to 10 CFR 2.206 of the Commission's regulations. The request has been referred to the Director of the NRC's Office of Nuclear Reactor Regulation (NRR). As provided by Section 2.206, appropriate action will be taken on this petition within a reasonable time.

A copy of the petition is available in the Agencywide Documents Access and Management System (ADAMS) for inspection at the Commission's Public Document Room (PDR), located at One White Flint North, 11555 Rockville Pike (first floor), Rockville, Maryland, and from the ADAMS Public Library component on the NRC's Web site, http://www.nrc.gov/reading-rm/adams.html (the Public Electronic Reading Room) using the Accession No. ML030370067. Persons who do not have access to ADAMS or who encounter problems in accessing the documents located in ADAMS, should contact the NRC's PDR Reference staff by telephone at 1-800-397-4209 or 301-415-4737, or by e-mail to pdr@nrc.gov.

Dated at Rockville, Maryland this 10th day of February 2003.
For the Nuclear Regulatory Commission.
Samuel J. Collins,
Director, Office of Nuclear Reactor Regulation.

[FR Doc. 03-3688 Filed 2-13-03; 8:45 am]

BILLING CODE 7590-01-P